DEPARTMENT OF COMMERCE

International Trade Administration

[A-570-912]

Certain New Pneumatic Off-the-Road Tires From the People's Republic of China: Extension of Preliminary Results of Antidumping Duty Administrative Review

AGENCY: Import Administration, International Trade Administration, Department of Commerce.

SUMMARY: The Department of Commerce (“the Department”) is extending the time limit for the preliminary results of the administrative review of certain new pneumatic off-the-road tires from the People's Republic of China (“PRC”). This review covers the period September 1, 2009, through August 31, 2010.

DATES: Effective Date: June 1, 2011.

FOR FURTHER INFORMATION CONTACT: Erin Begnal or Raquel Silva, AD/CVD Operations, Office 8, Import Administration, International Trade Administration, U.S. Department of Commerce, 14th Street and Constitution Avenue, NW., Washington, DC 20230; telephone: (202) 482-1442 or (202) 482-6475, respectively.

Background

On October 28, 2010, the Department published in the Federal Register a notice of initiation of the second administrative review of the antidumping duty order on certain new pneumatic off-the-road tires from the PRC. See Initiation of Antidumping and Countervailing Duty Administrative Reviews, 75 FR 66349 (October 28, 2010). The preliminary results of this review are currently due no later than June 2, 2011.

Statutory Time Limits

In antidumping duty administrative reviews, section 751(a)(3)(A) of the Tariff Act of 1930, as amended (“the Act”), requires the Department to issue its preliminary results within 245 days after the last day of the anniversary month of an order for which a review is requested and to issue its final results within 120 days after the date on which the preliminary results are published. However, if it is not practicable to complete the review within these time periods, section 751(a)(3)(A) of the Act allows the Department to extend the time limit for the preliminary results to a maximum of 365 days after the last day of the anniversary month.

Extension of Time Limit for Preliminary Results of Review

The Department has determined that it is not practicable to complete the instant administrative review within the original time limits established by section 751(a)(3)(A) of the Act because we require additional time to analyze questionnaire and supplemental questionnaire responses, to issue additional supplemental questionnaires if necessary, and to evaluate the most appropriate surrogate values on the administrative record to use in this segment of the proceeding. Therefore, in accordance with section 751(a)(3)(A) of the Act, the Department is extending the time period for completing the preliminary results of the instant administrative review until September 30, 2011, which is 365 days after the last day of the anniversary month of the date of publication of the order. The deadline for the final results of this review continues to be 120 days after the publication of the preliminary results.

We are issuing and publishing this notice in accordance with sections 751(a)(3)(A) and 777(i) of the Act.

Dated: May 25, 2011.
Christian Marsh,
Deputy Assistant Secretary for Antidumping and Countervailing Duty Operations.

[FR Doc. 2011-13560 Filed 5-31-11; 8:45 am]

BILLING CODE 3510-DS-P